SECURITIES AND EXCHANGE COMMISSION

[Release No. IC-26438]

Notice of Applications for Deregistration Under Section 8(f) of the Investment Company Act of 1940

April 30, 2004.

The following is a notice of applications for deregistration under section 8(f) of the Investment Company Act of 1940 for the month of April, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on May 25, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Putnam New York Tax Exempt Opportunities Fund [File No. 811-6176]

Summary: Applicant seeks an order declaring that it has ceased to be an investment company. On November 24, 2003, applicant transferred its assets to Putnam New York Tax Exempt Income Fund, based on net asset value. Expenses of $165,188 incurred in connection with the reorganization were paid by applicant, the acquiring fund, and Putnam Investment Management, LLC, applicant's investment adviser.

Filing Date: The application was filed on March 22, 2004.

Applicant's Address: One Post Office Sq., Boston, MA 02109.

Advantus International Balanced Fund, Inc. [File No. 811-8590]

Summary: Applicant seeks an order declaring that it has ceased to be an investment company. On December 8, 2003, applicant transferred its assets to a corresponding series of Ivy Funds, based on net asset value. Expenses of $87,340 incurred in connection with the reorganization were paid by Advantus Capital Management, Inc., applicant's investment adviser.

Filing Dates: The application was filed on March 10, 2004, and amended on March 29, 2004.

Applicant's Address: 600 Robert Street North, St. Paul, MN 55101.

Papp Stock Fund, Inc. [File No. 811-5922], Papp America-Abroad Fund, Inc. [File No. 811-6402], Papp America-Pacific Rim Fund, Inc. [File No. 811-8005], Papp Small & Mid-Cap Growth Fund, Inc. [File No. 811-9055]

Summary: Each applicant seeks an order declaring that it has ceased to be an investment company. On February 23, 2004, each applicant transferred its asset to a corresponding series of the Pioneer Series Trust II, based on net asset value. Each applicant incurred $18,561 in expenses in connection with its reorganization, which were paid by L. Roy Papp & Associates LLP, applicants' investment adviser.

Filing Date: The applications were filed on March 29, 2004.

Applicants' Address: 2201 E. Camelback Rd., Suite 227B, Phoenix, AZ 85016.

Wade Fund, Inc. [File No. 811-556]

Summary: Applicant seeks an order declaring that it has ceased to be an investment company. Applicant has never made a public offering of its securities and does not propose to make a public offering. Applicant currently has 49 shareholders and will continue to operate in reliance on section 3(c)(1) of the Act.

Filing Dates: The application was filed on February 27, 2004, and amended on April 15, 2004.

Applicant's Address: 5100 Poplar Ave., Suite 2224, Memphis, TN 38137.

Morgan FunShares, Inc. [File No. 811-8244]

Summary: Applicant, a closed-end investment company, seeks an order declaring that it has ceased to be an investment company. On November 4, 2003, applicant made a liquidating distribution to its shareholders, based on net asset value. Applicant has retained $4,937 in cash for contingent liabilities and winding-up expenses. Applicant paid $40,704 in expenses incurred in connection with the liquidation.

Filing Dates: The application was filed on March 30, 2004, and amended on April 20, 2004.

Applicant's Address: c/o Robert F. Pincus, Fifth Third Bank, NA, 1404 E. 9th St., 6th Floor, Cleveland, OH 44114.

The Hough Group of Funds [File No. 811-7902]

Summary: Applicant seeks an order declaring that it has ceased to be an investment company. On February 27, 2004, applicant made a final liquidating distribution to its shareholders, based on net asset value. Expenses of $2,600 incurred in connection with the liquidation were paid by William R. Hough & Co., applicant's investment adviser.

Filing Date: The application was filed on April 7, 2004.

Applicant's Address: 100 Second Ave. S., St. Petersburg, FL 33701.

The Inland Mutual Fund Trust [File No. 811-8958]

Summary: Applicant seeks an order declaring that it has ceased to be an investment company. By March 31, 2004, all shareholders of applicant had redeemed their shares at net asset value. Expenses of $31,333 incurred in connection with the liquidation were paid by Inland Investment Advisors, Inc., applicant's investment adviser.

Filing Dates: The application was filed on March 17, 2004, and amended on April 23, 2004.

Applicant's Address: 2901 Butterfield Rd., Oak Brook, IL 60523.

DK Investors, Inc. [File No. 811-2886]

Summary: Applicant, a closed-end investment company, seeks an order declaring that it has ceased to be an investment company. On February 6, 2004, applicant made a liquidating distribution to its shareholders, based on net asset value. Expenses of $37,297 incurred in connection with the liquidation were paid by applicant. Applicant intends to continue as a shell company while seeking a party to purchase control and/or merge with applicant. Applicant has retained $135,000 in cash to cover the related anticipated expenses.

Filing Dates: The application was filed on February 9, 2004, and amended on April 7, 2004 and April 27, 2004.

Applicant's Address: 205 Lexington Ave., 16th Floor, New York, NY 10016.

Glenbrook Life Discover Variable Account A [File No. 811-9629]

Summary: Applicant seeks an order declaring that it has ceased to be an investment company. On March 12, 2004 the Board of Directors voted to liquidate the applicant. No contracts were ever issued through the applicant. Expenses of $1500 incurred in connection with the liquidation were paid by the depositor, Glenbrook Life and Annuity Company.

Filing Date: The application was filed on April 6, 2004.

Applicant's Address: 3100 Sanders Road, Northbrook, Illinois 60062.

For the Commission, by the Division of Investment Management, pursuant to delegated authority.
Margaret H. McFarland,
Deputy Secretary.

[FR Doc. 04-10278 Filed 5-5-04; 8:45 am]

BILLING CODE 8010-01-P